DEPARTMENT OF THE INTERIOR

Bureau of Indian Affairs

[212A2100DD/AAKC001030/A0A501010.999900253G]

Bureau of Indian Education Strategic Direction 2018-2023

AGENCY: Bureau of Indian Affairs, Interior.

ACTION: Notice of tribal and public listening sessions.

SUMMARY: The Bureau of Indian Education (BIE) invites Tribes and stakeholders to listening sessions on its BIE Strategic Direction for 2018-2023 document for input on whether adjustments are appropriate for years 2022 and 2023, given the unforeseen events of the past year and a half.

DATES: Please see the SUPPLEMENTARY INFORMATION section of this notice for dates of the sessions and information on which Strategic Direction mission area will be discussed at each session. Written comments are due September 3, 2021.

ADDRESSES: Please see the SUPPLEMENTARY INFORMATION section of this notice for links to register for each session. You will receive a confirmation email upon registration with directions for joining. Written comments may be emailed to Chelsea.Wilson@bie.edu.

FOR FURTHER INFORMATION CONTACT: Chelsea Wilson, Program Analyst, Performance Office, at (703) 581-3064 or Chelsea.Wilson@bie.edu.

SUPPLEMENTARY INFORMATION: The BIE is currently in its third year of implementing its strategic planning document, BIE Strategic Direction (“Direction”) for 2018-2023. BIE developed the Direction with input from Tribal leaders and stakeholders such as school boards, educators, and families of Native students. Given the unforeseen events of the past year and a half, BIE is revisiting the Direction to conduct a mid-cycle check and make any appropriate adjustments to the milestones for years 4 and 5 of the Direction.

To obtain Tribes' and public stakeholders' input on years 4 and 5 of the Direction, we have designated a separate session to focus on each of the Direction's six mission areas and goals, as follows:

Mission Area: Comprehensive Strategic Direction Overview, August 24, 2021, 10 a.m.-11 a.m. CST, https://doilearn2.webex.com/doilearn2/onstage/g.php?MTID=e97f55ec4f62e7837bddd0e5824c48cfe

Goal 01—High-Quality, Early Childhood Education, August 24, 2021, 2 p.m.-1:30 p.m. CST, https://doilearn2.webex.com/doilearn2/onstage/g.php?MTID=e923a6532db9ab220265e3d7c7dda71c0

Goal 02—Wellness, Behavioral Health, and Safety, August 25, 2021, 9 a.m.-10:30 a.m. CST, https://doilearn2.webex.com/doilearn2/onstage/g.php?MTID=ece4c91a0085438908204c810753e3062

Goal 03—K-12 Instruction and High Academic Standards, August 25, 2021, 11 a.m.-12:30 p.m. CST, https://doilearn2.webex.com/doilearn2/onstage/g.php?MTID=ee71e40e9d2ac48dc4149533cc5f816c5

Goal 04—Postsecondary and Career Readiness, August 25, 2021, 2 p.m.-3:30 p.m. CST, https://doilearn2.webex.com/doilearn2/onstage/g.php?MTID=e4529f0e4b103765d2c388655afd99f34

Goal 05—Self-Determination, August 26, 2021, 9 a.m.-10:30 a.m. CST, https://doilearn2.webex.com/doilearn2/onstage/g.php?MTID=e37e49195a2325aa3629746186cc08222

Goal 06—Performance Management, August 26, 2021, 2 p.m.-3:30 p.m. CST, https://doilearn2.webex.com/doilearn2/onstage/g.php?MTID=e8c10ad0d0bab896669a0e7e6f885f770

BIE has invited Tribes by letter. BIE also welcomes input from families of students at BIE schools and other stakeholders.

Bryan Newland,
Principal Deputy Assistant Secretary—Indian Affairs.

[FR Doc. 2021-16697 Filed 8-4-21; 8:45 am]

BILLING CODE 4337-15-P